ENVIRONMENTAL PROTECTION AGENCY

40 CFR Parts 85 and 86

DEPARTMENT OF TRANSPORTATION

National Highway Traffic Safety Administration

49 CFR Parts 523, 531, 533, 536, and 537

[NHTSA-2018-0067; EPA-HQ-OAR-2018-0283; FRL-9984-62-OAR; NHTSA-2017-0069]

RIN 2127-AL76; RIN 2060-AU09

The Safer Affordable Fuel-Efficient (SAFE) Vehicles Rule for Model Years 2021-2026 Passenger Cars and Light Trucks; Extension of Comment Period

AGENCY: Environmental Protection Agency and National Highway Traffic Safety Administration.

ACTION: Proposed rule; extension of comment period.

SUMMARY: This document extends the comment period for a proposed rule published in the August 24, 2018 issue of the Federal Register entitled The Safer Affordable Fuel-Efficient (SAFE) Vehicles Rule for Model Years 2021-2026 Passenger Cars and Light Trucks and also extends the comment period for NHTSA's Draft Environmental Impact Statement that accompanies it. This extension is shorter than that requested by several parties, and those requests are accordingly denied.

DATES: The comment period for the proposed rule published August 24, 2018, at 83 FR 42986, is extended. The comment period for the Draft Environmental Impact Statement accompanying that proposed rule and published on NHTSA's website is also extended. Comments on both documents should be received on or before October 26, 2018.

ADDRESSES: You may send comments, identified by Docket No. EPA-HQ-OAR-2018-0283 and/or NHTSA-2018-0067, by any of the following methods:

• Federal eRulemaking Portal: http://www.regulations.gov. Follow the instructions for sending comments.

• Fax: EPA: (202) 566-9744; NHTSA: (202) 493-2251.

• Mail:

○ EPA: Environmental Protection Agency, EPA Docket Center (EPA/DC), Air and Radiation Docket, Mail Code 28221T, 1200 Pennsylvania Avenue NW, Washington, DC 20460, Attention Docket ID No. EPA-HQ-OAR-2018-0283. In addition, please mail a copy of your comments on the information collection provisions for the EPA proposal to the Office of Information and Regulatory Affairs, Office of Management and Budget (OMB), Attn: Desk Officer for EPA, 725 17th St. NW, Washington, DC 20503.

○ NHTSA: Docket Management Facility, M-30, U.S. Department of Transportation, West Building, Ground Floor, Rm. W12-140, 1200 New Jersey Avenue SE, Washington, DC 20590.

• Hand Delivery:

○ EPA: Docket Center (EPA/DC), EPA West, Room B102, 1301 Constitution Avenue NW, Washington, DC, Attention Docket ID No. EPA-HQ-OAR-2018-0283. Such deliveries are only accepted during the Docket's normal hours of operation, and special arrangements should be made for deliveries of boxed information.

○ NHTSA: West Building, Ground Floor, Rm. W12-140, 1200 New Jersey Avenue SE, Washington, DC 20590, between 9 a.m. and 4 p.m. Eastern Time, Monday through Friday, except Federal holidays.

Instructions: All submissions received must include the agency name and docket number or Regulatory Information Number (RIN) for this rulemaking. All comments received will be posted without change to http://www.regulations.gov, including any personal information provided. For detailed instructions on sending comments and additional information on the rulemaking process, see the “Public Participation” heading of the proposed rule (83 FR at 43470).

Docket: For access to the dockets to read background documents or comments received, go to http://www.regulations.gov, and/or:

• For EPA: EPA Docket Center (EPA/DC), EPA West, Room 3334, 1301 Constitution Avenue NW, Washington, DC 20460. The Public Reading Room is open from 8:30 a.m. to 4:30 p.m., Monday through Friday, excluding legal holidays. The telephone number for the Public Reading Room is (202) 566-1744.

• For NHTSA: Docket Management Facility, M-30, U.S. Department of Transportation, West Building, Ground Floor, Rm. W12-140, 1200 New Jersey Avenue SE, Washington, DC 20590. The Docket Management Facility is open between 9 a.m. and 4 p.m. Eastern Time, Monday through Friday, except Federal holidays.

FOR FURTHER INFORMATION CONTACT: EPA: Christopher Lieske, Office of Transportation and Air Quality, Assessment and Standards Division, Environmental Protection Agency, 2000 Traverwood Drive, Ann Arbor, MI 48105; telephone number: (734) 214-4584; fax number: (734) 214-4816; email address: lieske.christopher@epa.gov, or contact the Assessment and Standards Division, email address: otaqpublicweb@epa.gov. NHTSA: James Tamm, Office of Rulemaking, Fuel Economy Division, National Highway Traffic Safety Administration, 1200 New Jersey Avenue SE, Washington, DC 20590; telephone number: (202) 493-0515.

SUPPLEMENTARY INFORMATION: On August 24, 2018, NHTSA and EPA published in the Federal Register a document titled “The Safer Affordable Fuel-Efficient (SAFE) Vehicles Rule for Model Years 2021-2026 Passenger Cars and Light Trucks.” 83 FR 42986. The public comment period for the proposed rule was scheduled to end on October 23, 2018. Additionally, the public comment period for NHTSA's DEIS was scheduled to end on September 24, 2018.

Eighteen requests to extend the comment period have been received by the agencies' dockets as of the time of this writing, as follows:

Requester | Date submitted | Docket ID No. | Length of extension requested
Northeast States for Coordinated Air Use Management (NESCAUM) | August 24, 2018 | NHTSA-2018-0067-2158; EPA-HQ-OAR-2018-0283-0790 | 120 days for comment period as a whole.
Attorneys General of the States of California, Connecticut, Delaware, Iowa, Illinois, Maine, Maryland, Massachusetts, Minnesota, New Jersey, New York, North Carolina, Oregon, Pennsylvania, Rhode Island, Vermont, Washington, and the District of Columbia, and the Secretary of the Pennsylvania Department of Environmental Protection | August 27, 2018 | NHTSA-2018-0067-2567; EPA-HQ-OAR-2018-0283-0792 | 120 days for comment period as a whole.
National Coalition for Advanced Transportation (NCAT) | August 29, 2018 | NHTSA-2018-0067-2872; EPA-HQ-OAR-2018-0283-0794 | 120 days for comment period as a whole.
Environmental Law and Policy Center | August 30, 2018 | NHTSA-2018-0067-2728; EPA-HQ-OAR-2018-0283-0892 | 120 days for comment period as a whole.
Center for Biological Diversity (CBD), Conservation Law Foundation, Earthjustice, Environmental Defense Fund (EDF), Natural Resources Defense Council (NRDC), Public Citizen, Sierra Club, and Union of Concerned Scientists (UCS) | August 30, 2018 | NHTSA-2018-0067-3278; EPA-HQ-OAR-2018-0283-0797 | 120 days for comment period as a whole.
Minnesota Pollution Control Agency and Minnesota Department of Transportation | August 30, 2018 | NHTSA-2018-0067-3580; EPA-HQ-OAR-2018-0283-0798 | 180 days for comment period as a whole.
Consumer Federation of America | September 5, 2018 | NHTSA-2018-0067-3400; EPA-HQ-OAR-2018-0283-0872 | 120 days for comment period as a whole.
National Governors Association (NGA), Environmental Council of the States (ECOS), National Association of Clean Air Agencies (NACAA), Association of Air Pollution Control Agencies (AAPCA), National Association of State Energy Officials (NASEO) | September 5, 2018 | EPA-HQ-OAR-2018-0283-0871 | 120 days for comment period as a whole.
Georgetown Climate Center | September 6, 2018 | NHTSA-2018-0067-3610; EPA-HQ-OAR-2018-0283-0873 | At least 120 day comment period.
Alliance of Automobile Manufacturers (Alliance) | September 6, 2018 | NHTSA-2018-0067-3619; EPA-HQ-OAR-2018-0283-0876 | Not less than 120 day comment period.
City of Los Angeles | September 7, 2018 | NHTSA-2018-0067-4159; EPA-HQ-OAR-2018-0283-0893 | 120 days for comment period as a whole.
American Lung Association | September 9, 2018 | NHTSA-2018-0067-3615; EPA-HQ-OAR-2018-0283-0875 | At least 120 day comment period.
32 U.S. Senators ¹ | September 10, 2018 | Received by mail | 120 days for a comment period as a whole.
New York Department of Environmental Conservation | September 10, 2018 | Received by mail | 120 days for a comment period as a whole.
South Coast Air Quality Management District (SCAQMD) | September 12, 2018 | EPA-HQ-OAR-2018-0283-0885 | Not less than 120 day comment period.
Edison Electric Institute (EEI), National Rural Electric Cooperative Association (NRECA), National Association of Manufacturers (NAM), Electric Drive Transportation Association (EDTA), and American Public Power Association (APPA) | September 18, 2018 | Received by mail | 120 days for comment period as a whole.
New York University School of Law Institute for Policy Integrity | September 18, 2018 | Received by mail | At least 120 days as a whole.
Alliance to Save Energy | September 19, 2018 | Received by mail | At least 120 day comment period.
¹ Kamala D. Harris (D, CA); Dianne Feinstein (D, CA); Charles E. Schumer (D, NY); Edward J. Markey (D, MA); Sheldon Whitehouse (D, RI); Jeffrey A. Merkley (D, OR); Richard Blumenthal (D, CT); Patrick Leahy (D, VT); Chris Van Hollen (D, MD); Ron Wyden (D, OR); Catherine Cortez Masto (D, NV); Tina Smith (D, MN); Richard J. Durbin (D, IL); Mazie K. Hirono (D, HI); Benjamin L. Cardin (D, MD); Michael F. Bennet (D, CO); Jeanne Shaheen (D, NH); Margaret Wood Hassan (D, NH); Maria Cantwell (D, WA); Tammy Duckworth (D, IL); Cory A. Booker (D, NJ); Tammy Baldwin (D, WI); Jack Reed (D, RI); Patty Murray (D, WA); Kirsten Gillibrand (D, NY); Bernard Sanders (D, VT); Elizabeth Warren (D, MA); Thomas R. Carper (D, DE); Robert Menendez (D, NJ); Christopher A. Coons (D, DE); Bill Nelson (D, FL); Amy Klobuchar (D, MN).

Many of these requesters also asked that the agencies hold additional public hearings to allow more opportunities for oral presentation of public comments, in additional locations. Specifically:

• NESCAUM requested a public hearing be held in a central location in a Northeast state that has adopted California's greenhouse gas (GHG) standards and zero emissions vehicle (ZEV) program for light-duty vehicles and ZEV, such as Hartford, CT or Boston, MA;

• The Attorneys General requested that EPA (alone or with NHTSA) hold an additional hearing in Sacramento specifically on the California waiver withdrawal proposal, as well as holding additional hearings on the proposal in Los Angeles, Washington, DC, either Portland, OR or Seattle, WA, somewhere in New York State, and Baltimore, MD;

• Georgetown Climate Center also requested that a public hearing be held in Sacramento specifically on the California waiver withdrawal proposal, as well as holding hearings in Los Angeles and Washington, DC, and in other states that have adopted California's vehicle standards;

• The City of Los Angeles requested that a public hearing be held in Los Angeles, and supported the requests from other parties to hold additional hearings elsewhere around the country;

• The Minnesota Pollution Control Agency and Minnesota Department of Transportation requested that the agencies provide workshops like EPA did during development of the Clean Power Plan rule to help states and other stakeholders understand and comment on the content of the proposal and the agencies' modeling and analyses; and

• SCAQMD supported the requests from other parties to hold additional hearings.

A separate request to hold a public hearing in Oregon was submitted by the Democratic members of the U.S. Congressional Delegation from Oregon.² This request did not include a request for an extension of the comment period.³

² Specifically, U.S. Senators Jeffrey A. Merkley and Ron Wyden, and U.S. Representatives Earl Blumenauer, Suzanne Bonamici, Peter DeFazio, and Kurt Schrader.

³ Docket No. EPA-HQ-OAR-2018-0283-0894.

In addition to requesting extension to the comment period on the proposal, the Attorneys General, the 32 U.S. Senators, the Alliance, ELPC, the Minnesota Pollution Control Agency, Consumer Federation of America, NCAT, CBD et al., SCAQMD, and New York University School of Law's Institute for Policy Integrity also requested extensions of the comment period for NHTSA's DEIS, to align the end of that comment period with the (extended) comment period for the proposal.

In support of their requests for longer comment periods and additional public hearings (for those who requested them), all requesters cited the breadth and depth of the record to review, the changes from prior analyses conducted on the same topic, and the importance of the proposal in terms of its potential effects on the U.S. economy, safety, health, and the environment. Several requesters also stated that EPA had provided a 120-day comment period for its Clean Power Plan rule.

The requests for extension of the comment period for the proposal to 120 days (or 180 days, in the case of the Minnesota requesters) and for additional public hearing locations are denied. Automakers will need maximum lead time to respond to the final rule, and extending the comment period and holding additional public hearings (which would also cause the comment period to be extended) are inconsistent with provision of maximum lead time. We recognize, however, that the original schedule for the proposed rule public comment period did not reflect the Clean Air Act requirement that the record of proceedings allowing oral presentation of data, views, and arguments on a proposed rule be kept open for thirty days after completion of the proceeding to provide an opportunity for submission of rebuttal and supplementary information. 42 U.S.C. 7607(d)(5). Because the final “proceeding allowing oral presentation of data, views, and arguments,” is expected to be the September 26, 2018 public hearing in Pittsburgh, Pennsylvania, the comment period for the proposed rule is being extended by 3 days to Friday, October 26, 2018. To provide additional flexibility to commenters, NHTSA is also extending the public comment period for the DEIS by 32 days to Friday, October 26, 2018. The agencies believe that this amount of time should be adequate for commenters to comment meaningfully on the proposal and on NHTSA's DEIS.

Issued on September 21, 2018 in Washington, DC, under authority delegated in 49 CFR 1.95 and 501.5
Heidi R. King,
Deputy Administrator, National Highway Traffic Safety Administration.
Dated: September 21, 2018.
William L. Wehrum,
Assistant Administrator for Air and Radiation, Environmental Protection Agency.

[FR Doc. 2018-20962 Filed 9-21-18; 4:15 pm]

BILLING CODE 4910-59-P